FEDERAL COMMUNICATIONS COMMISSION

47 CFR Part 73

[MB Docket No. 24-4; RM-11974; DA 24-30; FR ID 196932]

Television Broadcasting Services Waynesboro, Virginia

AGENCY: Federal Communications Commission.

ACTION: Proposed rule.

SUMMARY: The Video Division, Media Bureau (Bureau), has before it a petition for rulemaking filed January 9, 2024, by VPM Media Corporation (Petitioner). The Petitioner requests the allotment of reserved noncommercial educational (NCE) television channel *12 to Waynesboro, Virginia (Waynesboro), as the community's first local television service and its first NCE television service.

DATES: Comments must be filed on or before February 20, 2024 and reply comments on or before March 4, 2024.

ADDRESSES: Federal Communications Commission, Office of the Secretary, 45 L Street NE, Washington, DC 20554. In addition to filing comments with the FCC, interested parties should serve counsel for the Petitioner as follows: Ari Meltzer, Wiley Rein LLP, 2050 M Street NW, Washington, DC 20036.

FOR FURTHER INFORMATION CONTACT: Emily Harrison, Media Bureau, at (202) 418-1665; or Emily Harrison, Media Bureau, at Emily.Harrison@fcc.gov.

SUPPLEMENTARY INFORMATION: The Petitioner states that Waynesboro qualifies as a community for allotment purposes. In support, it states that Waynesboro is an independent and principal city of the Staunton-Waynesboro Metropolitan Statistical Area. As of the 2020 Census, Waynesboro had a population of 22,196 and the Staunton-Waynesboro Statistical Area had a population of 125,654. In addition, Waynesboro has its own ZIP Code, two post offices, city council, public school system, police department, and library. The Petitioner states its intention to file an application for channel *12 if allotted, and take all necessary steps to obtain a construction permit.

We find the proposed amendment to the Table of TV Allotments warrants consideration. The Petitioner's proposal would result in a first local service to Waynesboro under the second priority of the Commission's television allotment priority standard. The Petitioner demonstrates, and a Bureau staff engineering analysis confirms, that channel *12 can be allotted to Waynesboro, consistent with the minimum geographic spacing requirements for new allotments in section 73.623(d) of the Commission's rules (Rules), at 37°38′24″ N and 78°27′11″ W (allotment point). In addition, the allotment point complies with section 73.625(a)(1) of the Rules as the entire community of Waynesboro is encompassed by the proposed 43 dBμ contour.

This is a synopsis of the Commission's Notice of Proposed Rulemaking, MB Docket No. 24-4; RM-11974; DA 24-30, adopted January 11, 2024, and released January 11, 2024. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this Notice of Proposed Rulemaking/Further Notice of Proposed Rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Virginia, add an entry for Waynesboro to read as follows:

§ 73.622 Digital television table of allotments.

* * * * *

(j) * * *

Community | Channel No.
* * * * *
Virginia
* * * * *
Waynesboro | * 12
* * * * *

[FR Doc. 2024-00988 Filed 1-18-24; 8:45 am]

BILLING CODE 6712-01-P